DEPARTMENT OF THE INTERIOR

National Park Service

[NPS-WASO-NAGPRA-NPS0033084; PPWOCRADN0-PCU00RP14.R50000]

Notice of Intent To Repatriate Cultural Items: The Field Museum of Natural History, Chicago, IL

AGENCY: National Park Service, Interior.

ACTION: Notice.

SUMMARY: The Field Museum of Natural History (Field Museum), in consultation with the appropriate Indian Tribes or Native Hawaiian organizations, has determined that the cultural items listed in this notice meet the definition of unassociated funerary objects. Lineal descendants or representatives of any Indian Tribe or Native Hawaiian organization not identified in this notice that wish to claim these cultural items should submit a written request to the Field Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Field Museum at the address in this notice by January 10, 2022.

FOR FURTHER INFORMATION CONTACT: Helen Robbins, Repatriation Director, The Field Museum, 1400 S Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate cultural items under the control of The Field Museum of Natural History, Chicago, IL, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime between 1893 and 1899, 25 cultural items were removed from graves at the sites of Old Shongopovi, Old Oraibi, Awatovi, Mishongnovi, and Chukubi in Navajo County, AZ. Heinrich Voth either removed these items himself or acquired them from third parties. In 1899, Voth sold this collection to the Field Museum.

The 21 items that were removed from graves at Old Shongopovi are 11 ceramic bowls, eight ceramic jars, and two ceramic ladles. The one item that was removed from a grave 4 miles southeast of Old Oraibi is a ceramic jar. The one item that was removed from a grave at Awatovi is a ceramic bowl. The one item that was removed from a grave at Mishongnovi is a ceramic bowl. The one item that was removed from a grave near the ruins of Chukubi is a ceramic bowl.

Voth's notes concerning the provenience of the cultural items reasonably show they were removed from graves. All the sites from which the cultural items were removed are located on the Hopi Reservation. The cultural items themselves are affiliated with the Hopi Tribe of Arizona based on academic literature, oral traditional information, and consultation with the Hopi Tribe of Arizona.

Determinations Made by The Field Museum of Natural History

Officials of The Field Museum of Natural History have determined that:

• Pursuant to 25 U.S.C. 3001(3)(B), the 25 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona.

Additional Requestors and Disposition

Lineal descendants or representatives of any Indian Tribe or Native Hawaiian organization not identified in this notice that wish to claim these cultural items should submit a written request with information in support of the claim to Helen Robbins, Director of Repatriation, The Field Museum, 1400 S Lake Shore Drive, Chicago, IL 60605, telephone (312) 665-7317, email hrobbins@fieldmuseum.org, by January 10, 2022. After that date, if no additional claimants have come forward, transfer of control of the unassociated funerary objects to the Hopi Tribe of Arizona may proceed.

The Field Museum of Natural History is responsible for notifying the Hopi Tribe of Arizona that this notice has been published.

Dated: December 3, 2021.
Melanie O'Brien,
Manager, National NAGPRA Program.

[FR Doc. 2021-26784 Filed 12-9-21; 8:45 am]

BILLING CODE 4312-52-P